DEPARTMENT OF ENERGY

Federal Energy Regulatory Commission

Combined Notice of Filings

Take notice that the Commission has received the following Natural Gas Pipeline Rate and Refund Report filings:

Filings Instituting Proceedings

Docket Numbers: RP19-343-001.

Applicants: Texas Eastern Transmission, LP.

Description: Tariff Amendment: Amendment to TETLP 2018 Rate Case Filing—RP19-343-000 to be effective 1/1/2019.

Filed Date: 12/7/18.

Accession Number: 20181207-5177.

Comments Due: 5 p.m. ET 12/13/18.

Docket Numbers: RP19-446-000.

Applicants: Big Sandy Pipeline, LLC.

Description: § 4(d) Rate Filing: Negotiated Rates—Dec2018 Cleanup Filing to be effective 1/7/2019.

Filed Date: 12/7/18.

Accession Number: 20181207-5001.

Comments Due: 5 p.m. ET 12/19/18.

Docket Numbers: RP19-447-000.

Applicants: Texas Eastern Transmission, LP.

Description: § 4(d) Rate Filing: Negotiated Rates—Dec2018 Cleanup Filing to be effective 1/7/2019.

Filed Date: 12/7/18.

Accession Number: 20181207-5004.

Comments Due: 5 p.m. ET 12/19/18.

Docket Numbers: RP19-448-000.

Applicants: Sabine Pipe Line LLC.

Description: eTariff filing per 1430: 501-G Report Filing to be effective N/A.

Filed Date: 12/7/18.

Accession Number: 20181207-5026.

Comments Due: 5 p.m. ET 12/19/18.

Docket Numbers: RP19-449-000.

Applicants: Northern Natural Gas Company.

Description: § 4(d) Rate Filing: 20181207 Negotiated Rate to be effective 12/8/2018.

Filed Date: 12/7/18.

Accession Number: 20181207-5172.

Comments Due: 5 p.m. ET 12/19/18.

Docket Numbers: RP19-450-000.

Applicants: Trans-Union Interstate Pipeline, L.P.

Description: eTariff filing per 1430: Trans-Union Form 501-G Refiling to be effective N/A.

Filed Date: 12/7/18.

Accession Number: 20181207-5217.

Comments Due: 5 p.m. ET 12/19/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 10, 2018.
Nathaniel J. Davis, Sr.,
Deputy Secretary.

[FR Doc. 2018-27174 Filed 12-14-18; 8:45 am]

BILLING CODE 6717-01-P